DEPARTMENT OF ENERGY

Office of Energy Efficiency and Renewable Energy

[Docket Number EERE-2011-BT-NOA-0039]

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 30, 2011. If you anticipate difficulty in submitting comments within that period, contact the person listed in ADDRESSES as soon as possible.

ADDRESSES: Written comments may be sent to Mr. Alan Schroeder, U.S. Department of Energy, Office of Energy Efficiency and Renewable Energy, Building Technologies Program, EE-2J, 1000 Independence Avenue, SW., Washington, DC 20585-0121, or by fax at 202-287-1830, or by e-mail at TechID-RFI-2011-NOA-0039@ee.doe.gov.

FOR FURTHER INFORMATION CONTACT: Requests for additional information or copies of the information collection instrument and instructions should be directed to Mr. Alan Schroeder, U.S. Department of Energy, Office of Energy Efficiency and Renewable Energy, Building Technologies Program, EE-2J, 1000 Independence Avenue SW., Washington, DC 20585-0121, Alan.Schroeder@ee.doe.gov, http://apps1.eere.energy.gov/buildings/alliances/cfm/tech_nomination_form.html.

SUPPLEMENTARY INFORMATION: This information collection request contains: (1) OMB No. New; (2) Information Collection Request Title: Commercial Buildings Technology Evaluation Process Data Collection; (3) Type of Request: New; (4) Purpose: The collected information is needed to perform energy use evaluations of emerging and underutilized energy efficient commercial building technologies. The results of these evaluations will promote the market adoption of more energy efficient technologies in commercial building applications and will potentially prevent the duplication of technology evaluation efforts among stakeholders. (5) Annual Estimated Number of Respondents: 100; (6) Annual Estimated Number of Total Responses: 100; (7) Annual Estimated Number of Burden Hours: 25; (8) Annual Estimated Reporting and Recordkeeping Cost Burden: $1000.

Statutory Authority: Section 421(c) of the Energy Independence and Security Act, codified at 42 U.S.C. 17081(c).

Issued in Washington, DC, on July 26, 2011.
Kathleen B. Hogan,
Deputy Assistant Secretary for Energy Efficiency, Office of Technology Development, Energy Efficiency and Renewable Energy.

[FR Doc. 2011-19437 Filed 7-29-11; 8:45 am]

BILLING CODE 6450-01-P